DEPARTMENT OF HEALTH AND HUMAN SERVICES (HHS)

Centers for Medicare & Medicaid Services

[CMS-1231-N]

Medicare Program; Re-Chartering of the Advisory Panel on Ambulatory Payment Classification Groups and Notice of Meeting of the Advisory Panel—January 21, 22, and 23, 2003

AGENCY: Centers for Medicare & Medicaid Services (CMS), HHS.

ACTION: Notice of re-chartering and notice of meeting.

SUMMARY: This notice announces the re-chartering of the Advisory Panel on Ambulatory Payment Classification (APC) Groups (the Panel) for a 2-year period through November 21, 2004, and also announces, in accordance with section 10(a) of the Federal Advisory Committee Act (5 U.S.C. Appendix 2), the third annual meeting of the Advisory Panel.

The purpose of the Panel is to review the APC groups, and their associated weights, and to advise the Secretary of Health and Human Services and the Administrator of the Centers for Medicare & Medicaid Services concerning the clinical integrity of the APC groups and their weights. The advice provided by the Panel will be considered as CMS prepares its annual update of the hospital outpatient prospective payment system (OPPS) through rulemaking.

DATES: Meeting dates: The third annual meeting is scheduled for Tuesday (January 21), Wednesday (January 22), and Thursday (January 23), 2003, from 8:30 a.m. until 5 p.m. daily (e.s.t.).

ADDRESSES: The 3-day meeting will be held in the Multipurpose Room, 1st Floor, at the CMS Central Office, 7500 Security Boulevard, Baltimore, Maryland 21244-1850.

FOR FURTHER INFORMATION CONTACT: For copies of the charter, for inquiries regarding these meetings, for meeting registration, and for submitting oral presentations or written agenda items, contact the meeting coordinator, Shirl Ackerman-Ross, CMS, Center for Medicare Management (CMM), Hospital Ambulatory Policy Group (HAPG), Division of Outpatient Care (DOC), 7500 Security Boulevard, Mail Stop C4-05-17, Baltimore, MD 21244, or phone (410) 786-4474. Also, please refer to the CMS Advisory Committees' Information Line at 1-877-449-5659 (toll free) and (410) 786-9379 (local).

For additional information on the APC meeting agenda topics or updates to the Panel's activities, search our Internet Web site: http://www.cms.hhs.gov/faca/apc/default.asp.

To submit a request for a copy of the charter, search the Internet at http://www.cms.hhs.gov/faca or e-mail SAckermannross@cms.hhs.gov.

Written materials may also be sent electronically to outpatientpps@cms.hhs.gov.

News media representatives should contact our Public Affairs Office at (202) 690-6145.

SUPPLEMENTARY INFORMATION:

I. Background

The Secretary of Health and Human Services (the Secretary) is required by section 1833(t)(9)(A) of the Social Security Act (the Act), as amended by section 201(h)(1)(B) and redesignated by section 202(a)(2) of the Balanced Budget Refinement Act of 1999 (BBRA) (Pub. L. 106-113), to establish and consult with an expert, outside advisory panel on ambulatory payment classification (APC) groups. The Advisory Panel on Ambulatory Payment Classification Groups (the Panel) meets a minimum of once annually to review the APC groups and to provide technical advice to the Secretary and to the Administrator of the Centers for Medicare & Medicaid Services (the Administrator) concerning the clinical integrity of the groups and their associated weights. We will consider the technical advice provided by the Panel as we prepare the proposed rule that proposes changes to the hospital outpatient prospective payment system (OPPS) for the next calendar year.

The Panel may consist of up to 15 representatives of Medicare providers, which are subject to the OPPS. The Administrator selected the Panel membership based upon either self-nominations or nominations submitted by providers or organizations. The Panel presently consists of the following 14 members and a Chair: Paul Rudolf, M.D., J.D., Chair, a CMS medical officer; Michelle Burke, R.N., M.S.A.; Leslie Jane Collins, R.N., B.S.N; Geneva Craig, R.N., M.A.; Lora DeWald, M.Ed.; Robert E. Henkin, M.D.; Lee H. Hilborne, M.D., M.P.H.; Stephen T. House, M.D.; Kathleen Kinslow, C.R.N.A., Ed.D.; Mike Metro, R.N., B.S.; Gerald V. Naccarelli, M.D.; Beverly K. Philip, M.D.; Karen Rutledge, B.S.; William A. Van Decker, M.D.; and Paul E. Wallner, D.O., F.A.C.R.

II. Provisions of This Notice

A. Re-Chartering

This notice announces the signing of the APC charter (Re-charter) by the Secretary on November 21, 2002. The charter will terminate on November 21, 2004, unless re-chartered by the Secretary before the expiration date.

B. Meeting Notice

The agenda for the January 2003 meeting will provide for discussion and comment on the following topics:

• Reconfiguration of APCs (for example, splitting of APCs, moving Healthcare Common Procedure Coding System (HCPCS) codes from one APC to another, and moving HCPCS codes from New Technology APCs to Clinical APCs).

• Packaging devices and drug costs into APCs: methodology, effect on APCs, and need for reconfiguring APCs based upon device and drug packaging.

• Removal of procedures from the inpatient list for payment under the OPPS.

• Use of single and multiple procedure claims data.

• Packaging of HCPCS codes.

• Other technical issues concerning APC structure.

We are soliciting comments from the public on specific proposed items falling within these agenda topics for the January 2003 Panel meeting. In order to be considered as a potential agenda topic for this meeting, comments must be submitted in writing and must fall within the agenda topics listed above. We urge those who wish to comment to send comments as soon as possible—but no later than 5 p.m. (e.s.t.) on Monday, January 6, 2003.

The meeting is open to the public, but attendance is limited to the space available. Individuals or organizations wishing to make 5-minute oral presentations should contact the meeting coordinator by 5 p.m. (e.s.t.) on Monday, January 6, 2003, in order to be scheduled. The number of oral presentations may be limited by the time available, and in no case should any oral presentation exceed 5 minutes.

Persons wishing to present must submit a copy of the presentation and the name, address, and telephone number of the proposed presenter. In addition, all presentations must contain, at a minimum, the following supporting information and data:

• Financial relationship(s), if any, with any company whose products, services, or procedures are under consideration.

• Physicians' Current Procedural Terminology (CPT) codes involved.

• APC(s) affected.

• Description of the issue(s).

• Clinical description of the service under discussion (with comparison to other services within the APC).

• Recommendations and rationale for change.

• Expected outcome of change and potential consequences of not making the change.

Submit a written copy of the oral remarks or written agenda items to the meeting coordinator listed above or electronically to the address: outpatientpps@cms.hhs.gov. Because of staffing and resource limitations, we cannot accept comments by facsimile (FAX) transmission and cannot acknowledge or respond individually to comments we receive.

In addition to formal presentations, there will be an opportunity during the meeting for public comment, limited to 1 minute for each individual or organization.

Any persons wishing to attend this meeting, which is located on Federal property, must call the meeting coordinator to register in advance by no later than January 2, 2003. Persons attending must present a photographic identification to the Federal Protective Service or Guard Service personnel before they will be allowed to enter the building. Persons who are not registered in advance will not be permitted into the building and will not be permitted to attend the meeting.

A member of our staff will be stationed at the Central Building first-floor lobby to provide assistance to attendees. Please remember that all visitors must be escorted if they have business in areas other than the lower- and first-floor levels in the Central Building. Parking permits and instructions are issued upon arrival by the guards at the main entrance.

Individuals requiring sign-language interpretation for the hearing impaired or other special accommodations should send a request for these services to the meeting coordinator by Monday, January 6, 2003.

Authority: Section 1833(t) of the Social Security Act (42 U.S.C. 1395(t), as amended by section 201(h) of the BBRA of 1999 (Pub. L. 106-113). The Panel is governed by the provisions of Pub. L. 92-463, as amended (5 U.S.C. Appendix 2).

Dated: December 4, 2002.
Thomas A. Scully,
Administrator, Centers for Medicare & Medicaid Services.

[FR Doc. 02-31409 Filed 12-26-02; 8:45 am]

BILLING CODE 4120-01-P